DEPARTMENT OF COMMERCE

Bureau of Economic Analysis

Renewal of the Bureau of Economic Analysis Advisory Committee Charter

AGENCY: Bureau of Economic Analysis (BEA), U.S. Department of Commerce.

ACTION: Notice of the renewal of the BEA Advisory Committee Charter.

SUMMARY: Please note that the U.S. Department of Commerce renewed the Charter for the Bureau of Economic Analysis Advisory Committee on June 9, 2017. It has been determined that the Committee is necessary and in the public interest.

FOR FURTHER INFORMATION CONTACT: Dondi Staunton, Designated Federal Official, Communications Division, Bureau of Economic Analysis, 4600 Silver Hill Road, Suitland, MD 20233; Telephone (301) 278-9798; Email dondi.staunton@bea.gov.

SUPPLEMENTARY INFORMATION: The Committee was established September 2, 1999, to advise the Director of BEA on matters related to the development and improvement of BEA's national, industry, international, and regional economic accounts.

Dated: August 10, 2017.
Brian Moyer,
Director, Bureau of Economic Analysis.

[FR Doc. 2017-18518 Filed 8-30-17; 8:45 am]

BILLING CODE 3510-06-P